DEPARTMENT OF JUSTICE

Antitrust Division

Notice Pursuant to the National Cooperative Research and Production Act of 1993—Undersea Technology Innovation Consortium

Notice is hereby given that, on January 28, 2019, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Allegheny Technologies Inc., Billerica, MA; Alliant Techsystems Operations LLC (Northrop Grumman Innovation Systems), Plymouth, MN; AMERICAN SYSTEMS, Middletown, RI; AMETEK SCP, Westerly, RI; Applied Mathematics Inc., Gales Ferry, CT; Argon St. Inc., a Boeing Company, Fairfax, VA; Asymmetric Technologies, Columbus, OH; BAE Systems Technology Solutions & Services Inc., Rockville, MD; Bailey Tool & Mfg. Co., Lancaster, TX; Ball Aerospace & Technologies Corp., Boulder, CO; Beck Engineering Inc., Poulsbo, WA; BioSonics Inc., Seattle, WA; Blue Ridge Envisioneering, Chantilly, VA; Boston Engineering Corp., Waltham, MA; Charles River Analytics Inc., Cambridge, MA; CUBRC Inc., Buffalo, NY; EaglePicher Technologies, St. Louis, MO; Electro Standards Laboratory Inc., Cranston, RI; Epsilon Systems Solutions Inc., San Diego, CA; EWA Government Systems Inc., Herndon, VA; Expedition Technology Inc., Dulles, VA; Fathom5 Corporation, Austin, TX; FGS LLC, La Plata, MD; Geodynamics LLC, Newport, NC; Gibbs & Cox Inc., Arlington, VA; Hydroid Inc., Pocasset, MA; Innovative Defense Technologies, Arlington, VA; IO Marine Systems Inc., New Orleans, LA; JPAnalytics LLC, East Falmouth, MA; L3 MariPro, Goleta, CA; L3 Open Water Power, Somerville, MA; LBI Inc., Groton, CT; Lockheed Martin RMS, Manassas, VA; Lynntech Inc., College Station, TX; Makai Ocean Engineering, Waimanalo, HI; Manufacturing Techniques Inc., Kilmarnock, VA; Marine Ventures International Inc., Stuart, FL; Maritime Applied Physics Corporation, Baltimore, MD; Measurement Analysis Corp., Torrance, CA; Microsoft Corporation, Redmond, WA; Millennium Corporation, Arlington, VA; Moog Inc., Space & Defense Group, Elma, NY; Navmar Applied Sciences, Warminster, PA; Northeastern University, Burlington, MA; Ocean Acoustical Services & Instrumentation Systems Inc. (OASIS), Lexington, MA; Offset Strategic Services LLC, Huntsville, AL; ORBIS Sibro Inc., Mount Pleasant, SC; PCCI Inc., Alexandria, VA; Photonic Systems Inc., Billerica, MA; Physical Sciences Inc., Andover, MA; Planck Aerosystems Inc., San Diego, CA; R&D Technologies Inc., N Kingstown, RI; Saft America Inc., Cockeysville, MD; Scientific Systems Co. Inc., Woburn, MA; Sea Machines Robotics Inc., Boston, MA; Sierra Nevada Corporation, Sparks, NV; Signal Systems Corporation, Millersville, MD; Solute Inc., San Diego, CA; Syntonics LLC, Columbia, MD; Technical Systems Integration Inc., Chesapeake, VA; Transtecs Corporation, Arlington, VA; URSA Inc., Exeter, NH; Vencore Labs Inc. dba Perspecta, Basking Ridge, NJ; XST Inc., San Diego, CA; and ZAF Energy Systems Inc., Bozeman, MT, have been added as parties to this venture.

Also, Dioxide Materials, Inc., Boca Raton, FL, has withdrawn as a party to this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

Suzanne Morris,
Chief, Premerger and Division Statistics Unit, Antitrust Division.

[FR Doc. 2019-03513 Filed 2-27-19; 8:45 am]

BILLING CODE 4410-11-P